DEPARTMENT OF AGRICULTURE

Commodity Credit Corporation

Notice of Funds Availability: Inviting Applications for the Technical Assistance for Specialty Crops Program

Announcement Type: New.

Catalog of Federal Domestic Assistance (CFDA) Number: 10.604.

SUMMARY: The Commodity Credit Corporation (CCC) announces that it is inviting proposals for the 2010 Technical Assistance for Specialty Crops (TASC) program. The intended effect of this notice is to solicit applications from the private sector and from government agencies for FY 2010 and award funds in October 2009. The TASC program is administered by personnel of the Foreign Agricultural Service (FAS).

DATES: See paragraph IV.4 below for a detailed description of relevant dates.

FOR FURTHER INFORMATION CONTACT: Entities wishing to apply for funding assistance should contact the Program Operations Division, Office of Trade Programs, Foreign Agricultural Service, Portals Office Building, Suite 400, 1250 Maryland Avenue, SW., Washington, DC 20024, phone: (202) 720-4327, fax: (202) 720-9361, e-mail: podadmin@fas.usda.gov. Information is also available on the Foreign Agricultural Service Web site at http://www.fas.usda.gov/mos/tasc/tasc.asp.

SUPPLEMENTARY INFORMATION:

I. Funding Opportunity Description

Authority: The TASC program is authorized by section 3205 of Public Law 107-171. TASC regulations appear at 7 CFR part 1487.

Purpose: The TASC program is designed to assist U.S. organizations by providing funding for projects that address sanitary, phytosanitary, or related technical barriers that prohibit or threaten the export of U.S. specialty crops. U.S. specialty crops, for the purpose of the TASC program, are defined to include all cultivated plants, or the products thereof, produced in the United States, except wheat, feed grains, oilseeds, cotton, rice, peanuts, sugar, and tobacco.

As a general matter, TASC program projects should be designed to address the following criteria:

• Projects should address a sanitary, phytosanitary, or related technical barrier that prohibits or threatens the export of U.S. specialty crops;

• Projects should demonstrably benefit the represented industry rather than a specific company or brand; and

• Projects must address barriers to exports of commercially-available U.S. specialty crops for which barrier removal would predominantly benefit U.S. exports.

Examples of expenses that CCC may agree to reimburse under the TASC program include, but are not limited to: Initial pre-clearance programs, export protocol and work plan support, seminars and workshops, study tours, field surveys, development of pest lists, pest and disease research, database development, reasonable logistical and administrative support, and travel and per diem expenses.

II. Award Information

In general, all qualified proposals received before the specified application deadlines will compete for funding. The limited funds and the range of barriers affecting the exports of U.S. specialty crops worldwide preclude CCC from approving large budgets for individual projects.

Applicants may submit multiple proposals, and applicants with previously approved TASC proposals may apply for additional funding. Please see 7 CFR part 1487 for additional restrictions.

FAS will consider providing either grant funds as direct assistance to U.S. organizations or technical assistance on behalf of U.S. organizations, provided that the organization submits timely and qualified proposals. FAS will review all proposals against the evaluation criteria contained in the program regulations.

Funding for successful proposals will be provided through specific agreements. These agreements will incorporate the proposal as approved by FAS. FAS must approve in advance any subsequent changes to the project. FAS or another Federal agency may be involved in the implementation of approved projects.

III. Eligibility Information

1. Eligible Applicants: Any U.S. organization, private or government, with a demonstrated role or interest in exporting U.S. agricultural commodities may apply to the program. Government organizations consist of Federal, State, and local agencies. Private organizations include non-profit trade associations, universities, agricultural cooperatives, state regional trade groups, and private companies.

Foreign organizations, whether government or private, may participate as third parties in activities carried out by U.S. organizations, but are not eligible for funding assistance from the program.

2. Cost Sharing or Matching: FAS considers the applicant's willingness to contribute resources, including cash, goods, and services of the U.S. industry and foreign third parties, when determining which proposals are approved for funding.

IV. Application and Submission Information

1. Application through the Unified Export Strategy (UES): Organizations are encouraged to submit their applications to FAS through the UES application Internet Web site. Using the UES application process reduces paperwork and expedites FAS' processing and review cycle. Applicants planning to use the UES Internet-based system must contact FAS Program Operations Division on (202) 720-4327 to obtain site access information including a user ID and password. The UES Internet-based application, including a help file containing step-by-step instructions for its use, may be found at the following URL address: http://www.fas.usda.gov/cooperators.html.

2. Application through electronic and hard copies: The FAS highly recommends applying via the Internet-based UES application. However, applicants also have the option of submitting an electronic version of their application to FAS (along with two paper copies) on compact disc. Applicants may request the application format from the Program Operations Division at (202) 720-4327 or obtain the application format on the Internet at: http://www.fas.usda.gov/mos/tasc/proposals.html.

3. Content and Form of Application Submission: All TASC proposals must contain complete information about the proposed projects as described in 1487.5(b) of the TASC program regulations. In addition, in accordance with the Office of Management and Budget's policy (68 FR 38402 (June 27, 2003)) regarding the need to identify entities that are receiving government awards, all applicants must submit a Dun and Bradstreet Data Universal Numbering System (DUNS) number. An applicant may request a DUNS number at no cost by calling the dedicated toll-free DUNS number request line on 1-866-705-5711.

Incomplete applications and applications which do not otherwise conform to this announcement will not be accepted for review.

4. Submission Dates and Times: TASC funding is limited, and in order to assure sufficient resources are available to meet unanticipated needs during the fiscal year, TASC proposals will, generally, only be evaluated on a semi-annual basis. That is:

• Proposals received prior to, but not later than, 5 p.m. Eastern Daylight Time, May 29, 2009, will be considered for funding with other proposals received by that date;

• Proposals not approved for funding during the review period will be reconsidered for funding after the review period only if the applicant specifically requests such reconsideration in writing, and only if funding remains available;

• Proposals received after 5 p.m. Eastern Daylight Time, May 29, 2009, will be considered for funding only if funding remains available.

Notwithstanding the foregoing, a proposal may be submitted for expedited consideration under the TASC Quick Response process if, in addition to meeting all requirements of the TASC program, a proposal clearly identifies a time-sensitive activity. In these cases, a proposal may be submitted at any time for an expedited evaluation.

FAS will track the time and date of receipt of all proposals.

5. Funding Restrictions: Although funded projects may take place in the United States, all eligible projects must specifically address sanitary, phytosanitary, or technical barriers to the export of U.S. specialty crops.

Certain types of expenses are not eligible for reimbursement by the program, such as the costs of market research, advertising, or other promotional expenses. CCC will also not reimburse unreasonable expenditures or any expenditure made prior to approval of a proposal.

6. Other Submission Requirements: All Internet-based applications must be properly submitted by 5 p.m., Eastern Daylight Time, on May 29, 2009, to be considered.

All applications on compact disk (with two accompanying paper copies) and any other applications must be received by 5 p.m. Eastern Daylight Time, on May 29, 2009, at the following address:

Hand Delivery (including FedEx, DHL, UPS, etc.): U.S. Department of Agriculture, Foreign Agricultural Service, Office of Trade Programs, Program Operations Division, Portals Office Building, Suite 400, 1250 Maryland Ave., SW., Washington, DC 20024.

V. Application Review Information

1. Criteria: FAS follows the evaluation criteria set forth in 1487.6 of the TASC regulations.

2. Review and Selection Process: FAS will review proposals for eligibility and will evaluate each proposal against the factors referred to above. The purpose of this review is to identify meritorious proposals, recommend an appropriate funding level for each proposal based upon these factors, and submit the proposals and funding recommendations to the Deputy Administrator, Office of Trade Programs. FAS may, when appropriate, request the assistance of other U.S. government subject area experts in evaluating the merits of a proposal.

VI. Award Administration Information

1. Award Notices: FAS will notify each applicant in writing of the final disposition of its application. FAS will send an approval letter and agreement to each approved applicant. The approval letter and agreement will specify the terms and conditions applicable to the project, including levels of funding, timelines for implementation, and written evaluation requirements.

2. Administrative and National Policy Requirements: The agreements will incorporate the details of each project as approved by FAS. Each agreement will identify terms and conditions pursuant to which CCC will reimburse certain costs of each project. Agreements will also outline the responsibilities of the participant. Interested parties should review the TASC program regulations found at 7 CFR part 1487 in addition to this announcement. TASC program regulations are available at the following URL address: http://www.fas.usa.gov/mos/programs/TASC%201487%201-1-06.pdf. Hard copies may be obtained by contacting the Program Operations Divison at (202) 720-4327.

3. Reporting: TASC participants are required to submit written report(s), on not less than an annual basis, and a final report, each of which evaluates their TASC project using the performance measures presented in the approved proposal.

VII. Agency Contact

For additional information and assistance, contact the Program Operations Division, Office of Trade Programs, Foreign Agricultural Service, U.S. Department of Agriculture, by hand delivery or courier: Portals Office Building, Suite 400, 1250 Maryland Avenue, SW., Washington, DC 20024, by phone: (202) 720-4327, by fax: (202) 720-9361, e-mail: podadmin@fas.usda.gov.

Signed at Washington, DC, on the 17th of April 2009.
Patricia R. Sheikh,
Acting Administrator, Foreign Agricultural Service, and Vice President, Commodity Credit Corporation.

[FR Doc. E9-9734 Filed 4-28-09; 8:45 am]

BILLING CODE 3410-10-P